DEPARTMENT OF LABOR

Employment and Training Administration

[NAFTA-4874]

Leggett and Platt, Inc., Plastics Division; Forest City, NC; Notice of Termination of Investigation

Pursuant to Title V of the North American Free Trade Agreement Implementation Act (P.L. 103-182) concerning transitional adjustment assistance, hereinafter called NAFTA-TAA and in accordance with Section 250(a), Subchapter D, Chapter 2, Title II, of the Trade Act of 1974, as amended (19 U.S.C. 2331), an investigation was initiated on May 9, 2001, in response to a petition filed on behalf of workers at Leggett and Platt, Inc., Plastics Division, Forest City, North Carolina.

The petitioners filed their petition more than one year after the subject facility had closed and they had been separated from employment. In accordance with Section 223(b) of the Trade Act of 1974, as amended, no certification may apply to any worker whose last total or partial separation from the subject firm occurred one year prior to the date of the petition. Consequently, further investigation in this case would serve no purpose, and the investigation has been terminated.

Signed in Washington, DC this 6th day of June, 2001.
Linda G. Poole,
Certifying Officer, Division of Trade Adjustment Assistance.

[FR Doc. 01-16074 Filed 6-26-01; 8:45 am]

BILLING CODE 4510-30-M